DEPARTMENT OF COMMERCE

International Trade Administration

[A-570-863]

Honey from the People's Republic of China: Amended Final Results of Antidumping Duty New Shipper Review

AGENCY: Import Administration, International Trade Administration, Department of Commerce.

SUMMARY: On November 2, 2005, the United States Court of International Trade (CIT) affirmed the U.S. Department of Commerce's (the Department's) redetermination on remand of the final results of the antidumping duty new shipper review on honey from the People's Republic of China. See Wuhan Bee Healthy Co., Ltd. v. United States, Slip Op. 05-142 (CIT 2005). The Department is now issuing these amended final results reflecting the CIT's decision.

EFFECTIVE DATE: January 30, 2006.

FOR FURTHER INFORMATION CONTACT: Angelica Mendoza or Abdelali Elouaradia, AD/CVD Operations, Office 7, Import Administration, U.S. Department of Commerce, 14th Street and Constitution Avenue, NW., Washington, DC 20230; telephone: (202) 482-3019 or (202) 482-1374, respectively.

SUPPLEMENTARY INFORMATION:

Background

On October 31, 2003, the Department published the final results of the antidumping duty new shipper review on honey from the People's Republic of China for the period December 1, 2001, through May 31, 2002. See Notice of Final Results of Antidumping Duty New Shipper Review: Honey From the People's Republic of China, 68 FR 62053 (October 31, 2003) (Final Results) and accompanying Issues and Decision Memorandum (Decision Memo). On July 16, 2004, Wuhan Bee Healthy Co., Ltd. (Wuhan Bee) filed a lawsuit challenging the final results. On June 10, 2005, the CIT remanded the Department's decision to rely on Indian Import Statistics from the Monthly Statistics of Foreign Trade of India (MSFTI) value as a surrogate for steam coal rather than the Tata Energy Research Institute's (TERI) Energy Data Directory & Yearbook for 2001/2002 domestic coal prices for steam coal placed on the record by Wuhan Bee. See Wuhan Bee Healthy Co., Ltd. v. United States, Slip Op. 05-65 (CIT June 10, 2005).

In accordance with the CIT's remand order, the Department filed its remand results on September 7, 2005. In those remand results, the Department used the domestic coal prices for steam coal as reported in the TERI data as a surrogate value for the steam coal input and recalculated Wuhan Bee's margin accordingly. See Final Results Pursuant to Remand for Wuhan Bee Healthy Co., Ltd. v. United States, Slip Op. 05-65 published on Import Administration's website (http://ia.ita.doc.gov).

On November 2, 2005, the CIT affirmed the Department's remand redetermination. See Wuhan Bee Healthy Co., Ltd. v. United States, Slip Op. 05-142 (CIT 2005). There was no appeal of the CIT's decision to the U.S. Court of Appeals for the Federal Circuit filed within the appeal period. Therefore, the CIT's decision is now final and conclusive.

Amendment to Final Results

We are now amending the final results of this new shipper review to reflect the final and conclusive decision of the CIT. The changes to our calculations with respect to Wuhan Bee resulted in a change in the weighted-average margin from 32.84 percent to 32.63 percent for the period of review. The Department will instruct U.S. Customs and Border Protection to liquidate entries of honey from the People's Republic of China produced by, exported to, or imported into the United States by Wuhan Bee during the review period at the assessment rates the Department calculated for these amended final results of review.

We are issuing and publishing these results in accordance with sections 751(a)(2)(B) and 777(i)(1) of the Tariff Act of 1930, as amended.

Dated: January 20, 2006.
David Spooner,
Assistant Secretary for Import Administration.

[FR Doc. E6-1111 Filed 1-27-06; 8:45 am]

BILLING CODE 3510-DS-S